DEPARTMENT OF TRANSPORTATION

Federal Aviation Administration

14 CFR Part 39

[Docket No. FAA-2005-22812; Directorate Identifier 2005-NM-134-AD; Amendment 39-14811; AD 2006-22-14]

RIN 2120-AA64

Airworthiness Directives; Airbus Model A330 Airplanes and Model A340-200 and -300 Series Airplanes

AGENCY: Federal Aviation Administration (FAA), Department of Transportation (DOT).

ACTION: Final rule.

SUMMARY: The FAA is adopting a new airworthiness directive (AD) for certain Airbus Model A330 airplanes and Model A340-200 and -300 series airplanes. This AD requires repetitive detailed inspections for cracking in the aft web of support rib 6 between certain bottom skin stringers on both wings; high frequency eddy current inspections for cracking of the attachment holes of the fuel pipes, and repair if necessary. This AD also provides for an optional modification, which extends a certain inspection threshold, and mandates, for certain airplanes, a new modification of support rib 6 on both wings, which ends the repetitive inspection requirement. This AD results from a report of significant cracking found in the aft web of support rib 6 on both wings. We are issuing this AD to prevent cracking in the aft web of support rib 6, which could result in overloading of adjacent ribs and the surrounding wing structure and consequent reduced structural integrity of the wing.

DATES: This AD becomes effective December 11, 2006.

The Director of the Federal Register approved the incorporation by reference of certain publications listed in the AD as of December 11, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for the service information identified in this AD.

FOR FURTHER INFORMATION CONTACT: Tim Backman, Aerospace Engineer, International Branch, ANM-116, Transport Airplane Directorate, FAA, 1601 Lind Avenue, SW., Renton, Washington 98057-3356; telephone (425) 227-2797; fax (425) 227-1149.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that would apply to certain Airbus Model A330 airplanes and Model A340-200 and -300 series airplanes. That supplemental NPRM was published in the Federal Register on May 26, 2006 (71 FR 30340). That supplemental NPRM proposed to require repetitive detailed inspections for cracking in the aft web of support rib 6 between certain bottom skin stringers on both wings; high frequency eddy current inspections for cracking of the attachment holes of the fuel pipes, and repair if necessary. The supplemental NPRM also provided for an optional modification, which would extend a certain inspection threshold. For certain airplanes, the supplemental NPRM proposed to require a new modification of support rib 6 on both wings, which would end the repetitive inspection requirement. The supplemental NPRM also proposed to reduce the applicability in the original NPRM.

Comment

We provided the public the opportunity to participate in the development of this AD. We have considered the comment received.

Request for Credit for Terminating Modification

The Air Transport Association (ATA), on behalf of its member Northwest Airlines (NWA), asks that we recognize Airbus Modification 54432 as terminating action for the repetitive inspection requirements in the supplemental NPRM. NWA states that this modification is being incorporated by Airbus in production as the “production solution” for the fatigue cracking problems. NWA adds that the modification will be installed on its Model A330 airplanes delivered with manufacturer's serial number 0778 and subsequent.

We agree that Airbus Modification 54432 will be terminating action for the referenced repetitive inspections. However, that modification is not yet approved by either the European Aviation Safety Agency (EASA), which is the airworthiness authority for the European Union, or the FAA. The modification is currently in the approval process with the EASA. This modification is the production solution that installs a re-designed rib for production airplanes with a new wing build. Once the modification is approved, the referenced EASA airworthiness directive will be revised to include this terminating action. After the modification is approved and available, operators may request an alternative method of compliance for installing the modification. We have not changed the AD in this regard.

Explanation of Change to the Supplemental NPRM

Airbus Service Bulletins A300-57-3085 and A340-57-4093, both Revision 02, both dated September 29, 2005, were included in the service information section of the supplemental NPRM as the sources of service information for accomplishing the inspections. However, Revision 02 was inadvertently omitted from paragraph (l) of the supplemental NPRM; we have added Revision 02 to paragraph (l) accordingly.

Conclusion

We have carefully reviewed the available data, including the comment received, and determined that air safety and the public interest require adopting the AD with the change described previously. This change will neither increase the economic burden on any operator nor increase the scope of the AD.

Costs of Compliance

This AD affects about 25 airplanes of U.S. registry.

The inspections take about 4 work hours per airplane, at an average labor rate of $80 per work hour. Based on these figures, the estimated cost of the inspections for U.S. operators is $8,000, or $320 per airplane, per inspection cycle.

The modification of support rib 6 on the left-hand wing takes about 38 work hours per airplane, at an average labor rate of $80 per work hour. Required parts cost about $5,020 per airplane. Based on these figures, the estimated cost of this modification of the left-hand wing on U.S. operators is $201,500, or $8,060 per airplane.

The modification of support rib 6 on the right-hand wing takes about 38 work hours per airplane, at an average labor rate of $80 per work hour. Required parts cost about $5,020 per airplane. Based on these figures, the estimated cost of this modification of the right-hand wing on U.S. operators is $201,500, or $8,060 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-22-14 Airbus: Amendment 39-14811. Docket No. FAA-2005-22812; Directorate Identifier 2005-NM-134-AD.

Effective Date

(a) This AD becomes effective December 11, 2006.

Affected ADs

(b) None.

Applicability

(c) This AD applies to Airbus Model A330 airplanes and Model A340-200 and -300 series airplanes, certificated in any category; on which Airbus Modification 41114 or 44599 was done during production; except those airplanes on which Airbus Modification 53883 was done during production.

Unsafe Condition

(d) This AD results from a report of significant cracking found in the aft web of support rib 6 on both wings. We are issuing this AD to prevent cracking in the aft web of support rib 6, which could result in overloading of adjacent ribs and the surrounding wing structure and consequent reduced structural integrity of the wing.

Compliance

(e) You are responsible for having the actions required by this AD performed within the compliance times specified, unless the actions have already been done.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Repetitive Inspections

(f) For Model A330 series airplanes on which Airbus Modification 53882 was not done during production: At the applicable time specified in paragraph (f)(1), (f)(2), or (f)(3) of this AD, perform a detailed inspection for cracking in the aft web of support rib 6 between bottom skin stringers 18 and 20 on both wings, and high frequency eddy current inspections for cracking of the attachment holes of the fuel pipe and fuel pipe mounting, by doing all the actions in accordance with the Accomplishment Instructions of Airbus Service Bulletin A330-57-3085, Revision 02, dated September 29, 2005. If no crack is found during the initial inspections, repeat the inspections thereafter at intervals not to exceed 8,000 flight cycles or 25,000 flight hours, whichever is first, until the terminating action specified in paragraph (n) of this AD is done. If any crack is found during any inspection, repair as specified in paragraph (k) of this AD, or before further flight do the terminating action specified in paragraph (n) of this AD.

(1) For airplanes that have accumulated 7,999 or fewer total flight cycles, and 24,999 or fewer total flight hours, as of the effective date of this AD: Do the inspections at the later of the times specified in paragraphs (f)(1)(i) and (f)(1)(ii) of this AD.

(i) Before the accumulation of 8,000 total flight cycles or 25,000 total flight hours, whichever is first.

(ii) Within 8 months after the effective date of this AD.

(2) For airplanes that have accumulated 8,000 or more total flight cycles, but fewer than 10,000 total flight cycles; or 25,000 or more total flight hours, but fewer than 30,000 total flight hours; as of the effective date of this AD: Do the inspections at the later of the times specified in paragraphs (f)(2)(i) and (f)(2)(ii) of this AD.

(i) Before the accumulation of 10,000 total flight cycles or 30,000 total flight hours, whichever is first.

(ii) Within 8 months after the effective date of this AD.

(3) For airplanes that have accumulated 10,000 or more total flight cycles or 30,000 or more total flight hours as of the effective date of this AD: Do the inspections within 3 months after the effective date of this AD.

(g) For Model A330 series airplanes on which Airbus Modification 53882 was done during production or on which Airbus Service Bulletin A330-57-3087, dated February 15, 2005, or Revision 01, dated September 22, 2005, has been done: Perform the applicable inspections required by paragraph (f) of this AD at the earliest of the initial inspection thresholds specified in Figure 4, Sheet 1, “Inspection Flow Chart” of Airbus Service Bulletin A330-57-3085, Revision 02, dated September 29, 2005; or within 6 months after the effective date of this AD, whichever is later. Repeat the inspections required by paragraph (f) of this AD at the time specified in paragraph (f) of this AD, until the terminating action specified in paragraph (n) of this AD is done.

(h) For Model A340 series airplanes on which Airbus Modification 53882 was not done during production: Perform the inspections required by paragraph (f) of this AD at the applicable time specified in paragraph (h)(1), (h)(2), or (h)(3) of this AD. Perform the inspections by doing all the actions in accordance with the Accomplishment Instructions of Airbus Service Bulletin A340-57-4093, Revision 02, dated September 29, 2005. Repeat the inspections thereafter at intervals not to exceed 8,000 flight cycles or 30,200 flight hours, whichever is first, until the terminating action specified in paragraph (n) of this AD is done.

(1) For airplanes that have accumulated 7,999 or fewer total flight cycles, and 30,199 or fewer total flight hours, as of the effective date of this AD: Do the inspections at the later of the times specified in paragraphs (h)(1)(i) and (h)(1)(ii) of this AD.

(i) Before the accumulation of 8,000 total flight cycles or 30,200 total flight hours, whichever is first.

(ii) Within 8 months after the effective date of this AD.

(2) For airplanes that have accumulated 8,000 or more total flight cycles, but fewer than 10,000 total flight cycles; or 30,200 or more total flight cycles, but fewer than 43,700 total flight hours, as of the effective date of this AD: Do the inspections at the later of the times specified in paragraphs (h)(2)(i) and (h)(2)(ii) of this AD.

(i) Before the accumulation of 10,000 total flight cycles or 43,700 total flight hours, whichever is first.

(ii) Within 8 months after the effective date of this AD.

(3) For airplanes that have accumulated 10,000 or more total flight cycles or 43,700 or more total flight hours as of the effective date of this AD: Do the inspections within 3 months after the effective date of this AD.

(i) For Model A340 series airplanes on which Airbus Modification 53882 was done during production or on which Airbus Service Bulletin A340-57-4095, dated February 15, 2005, or Revision 01, dated September 22, 2005, has been done: Perform the applicable inspections required by paragraph (f) of this AD at the earliest of the initial inspection thresholds specified in Figure 4, Sheet 1, “Inspection Flow Chart” of Airbus Service Bulletin A340-57-4093, Revision 02, dated September 29, 2005; or within 6 months after the effective date of this AD, whichever is later. Repeat the inspections required by paragraph (f) of this AD at the time specified in paragraph (h) of this AD, until the terminating action specified in paragraph (n) of this AD is done.

Inspections Accomplished According to Previous Issue of Service Bulletins

(j) Inspections accomplished before the effective date of this AD according to Airbus All Operator Telex A330-57A3085 or A340-57A4093, each dated December 15, 2004; or Airbus Service Bulletin A330-57-3085 or A340-57-4093, each Revision 01, each dated March 25, 2005; are considered acceptable for compliance with the corresponding inspections specified in this AD.

Repair

(k) If any cracking is found during any inspection required by this AD: Before further flight, either repair and get a schedule for subsequent inspections, according to a method approved by either the Manager, International Branch, ANM-116, Transport Airplane Directorate, FAA; or the European Aviation Safety Agency (EASA) (or its delegated agent); or accomplish the terminating action specified in paragraph (n) of this AD.

Optional Modification

(l) Accomplishing the modification of the fuel pipe connector and the fastener holes of support rib 6 on both wings by doing all the actions specified in the Accomplishment Instructions of Airbus Service Bulletin A330-57-3087 or A340-57-4095, each dated February 15, 2005, or Revision 01, each dated September 22, 2005, as applicable, extends the interval for the next inspection to the applicable post-modification inspection threshold specified in Figure 4, Sheet 1, “Inspection Flow Chart” of Airbus Service Bulletins A330-57-3085 or A340-57-4093, each Revision 02, each dated September 29, 2005, as applicable. After accomplishing that inspection, repeat the applicable inspections required by paragraph (f) or (h) of this AD at the applicable repetitive inspection interval specified in Figure 4 of the Accomplishment Instructions of the applicable service bulletin, until the terminating action specified in paragraph (n) of this AD is done.

Hard or Overweight Landing

(m) For Model A330 series airplanes with 8,000 or more total flight cycles or 25,000 or more total flight hours, and Model A340 series airplanes with 8,000 or more total flight cycles or 30,200 or more total flight hours that have not been modified in accordance with paragraph (n) of this AD: Before further flight after any hard or overweight landing of the airplane, accomplish the applicable follow-on inspections and any applicable corrective actions according to a method approved by either the Manager, International Branch, ANM-116; or the EASA (or its delegated agent). Accomplishing the inspections in Chapter 05-51-11, titled “Inspection After Hard/Overweight Landing—Inspection/Check,” dated April 1, 2005, or July 1, 2006, of the Airbus A330 Aircraft Maintenance Manual (AMM); or Chapter 05-51-11, titled “Inspection After Hard/Overweight Landing—Inspection/Check,” dated July 1, 2006, of the Airbus A340 AMM; as applicable; and Airbus A330/A340 Technical Disposition (TD) TD/J1/S3/00608/2005, Issue C, dated April 26, 2005, titled “Inspections following hard landing, both wings,” are approved methods. Operators can obtain the TD from Airbus.

Terminating Modification

(n) For airplanes on which support rib 6 on both wings has not been repaired in accordance with paragraph (k) of this AD: Within 60 months after the effective date of this AD, modify the fuel pipe connector and the fastener holes of support rib 6 on both wings by doing all the actions specified in the Accomplishment Instructions of Airbus Service Bulletin A330-57-3088 or A340-57-4096, each including Appendix 01, each dated September 21, 2005, as applicable. Accomplishing the modification in this paragraph ends the repetitive inspections required by this AD. Repair of support rib 6 on both wings before the effective date of this AD using Airbus A330/A340 Repair Instruction R572-57023, Issue D, dated May 11, 2005; or R572-57026, Issue C, dated December 2005; as applicable, ends the repetitive inspections required by this AD.

Alternative Methods of Compliance (AMOCs)

(o)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(p) French airworthiness directives F-2006-008 and F-2006-009, both dated January 4, 2006, also address the subject of this AD.

Material Incorporated by Reference

(q) You must use the applicable Airbus service bulletins specified in Table 1 of this AD to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 1.—Material Incorporated by Reference
Airbus Service Bulletin | Revision level | Date
A330-57-3085 | 02 | September 29, 2005.
A330-57-3087 | Original | February 15, 2005.
A330-57-3087 | 01 | September 22, 2005.
A330-57-3088, including Appendix 01 | Original | September 21, 2005.
A340-57-4093 | 02 | September 29, 2005.
A340-57-4095 | Original | February 15, 2005.
A340-57-4095 | 01 | September 22, 2005.
A340-57-4096, including Appendix 01 | Original | September 21, 2005.

Issued in Renton, Washington, on October 25, 2006.
Kalene C. Yanamura,
Acting Manager, Transport Airplane Directorate, Aircraft Certification Service.

[FR Doc. E6-18471 Filed 11-3-06; 8:45 am]

BILLING CODE 4910-13-P